DEPARTMENT OF ENERGY

Office of Energy Efficiency and Renewable Energy

Energy Savings Performance Contract Energy Sales Agreement

AGENCY: Federal Energy Management Program (FEMP), Office of Energy Efficiency and Renewable Energy, U.S. Department of Energy (DOE).

ACTION: Notice of availability and request for comments.

SUMMARY: The Federal Energy Management Program Office (FEMP), within the U.S. Department of Energy (DOE), published a notice, “Request for Comments on Including Onsite Renewable Energy Generation under Energy Savings Performance Contracts,” on its Web site to obtain information on potential obstacles associated with the implementation of privately-owned onsite renewable energy generation projects under the federal energy savings performance contract (ESPC) authority, including potential issues with regard to project eligibility for the federal solar investment tax credit (ITC) and the use of the ESPC ENABLE Program for such projects.

DATES: Written comments and information are requested on or before March 2, 2016.

ADDRESSES: Interested parties are to submit comments electronically to: tracy.logan@ee.doe.gov.

Instructions: All submissions received must include “Feb 2016 ESPC Request for Comments” in the subject of the message. The notice is available at http://energy.gov/eere/femp/downloads/request-comments-including-onsite-renewable-energy-generation-under-energy.

FOR FURTHER INFORMATION CONTACT: Tracy Logan, U.S. Department of Energy, Federal Energy Management Program (EE-2L), 1000 Independence Avenue SW., Washington, DC 20585; email: Tracy.Logan@ee.doe.gov.

SUPPLEMENTARY INFORMATION: FEMP published a notice, “Request for Comments on Including Onsite Renewable Energy Generation under Energy Savings Performance Contracts,” to obtain information on potential obstacles associated with the implementation of privately-owned onsite renewable energy generation projects under the federal energy savings performance contract (ESPC) authority, including potential issues with regard to project eligibility for the federal solar investment tax credit (ITC) and the use of the ESPC ENABLE Program for such projects. The notice is available at http://energy.gov/eere/femp/downloads/request-comments-including-onsite-renewable-energy-generation-under-energy.

FEMP invites all interested parties to submit in writing by March 2, 2016, comments and information on matters addressed in the notice.

Issued in Washington, DC, on February 3, 2016.
Hayes Jones,
Operations Supervisor, Federal Energy Management Program.

[FR Doc. 2016-03103 Filed 2-12-16; 8:45 am]

BILLING CODE 6450-01-P